ENVIRONMENTAL PROTECTION AGENCY

40 CFR Parts 260 and 261

[RCRA-2003-0004; FRL-7626-4]

RIN-2050-AE51

Hazardous Waste Management System: Identification and Listing of Hazardous Waste: Conditional Exclusions From Hazardous Waste and Solid Waste for Solvent-Contaminated Industrial Wipes; Notice of Public Hearing and Extension of Comment Period

AGENCY: Environmental Protection Agency (EPA).

ACTION: Proposed rule; notice of public hearing and extension of comment period.

SUMMARY: EPA is announcing a public hearing to be held March 9, 2004 on the proposed rule entitled “Proposed Conditional Exclusions from Hazardous and Solid Waste for Solvent-Contaminated Industrial Wipes,” which appeared in the Federal Register on November 20, 2003 (68 FR 65586). EPA is also extending the comment period through April 9, 2004, to accommodate those who wish to respond to testimony given at the hearing in their comments. In this proposed rulemaking, EPA proposed a conditional exclusion from the definition of solid waste for industrial wipes that are contaminated with solvent and that are sent to laundries or dry cleaners for cleaning and reuse. We also proposed a conditional exclusion from the definition of hazardous waste for industrial wipes that are contaminated with solvent and are sent for disposal. The public hearing is being held as a result of a request from the Sierra Club and UNITE, the Union of Needletrades, Industrial, and Textile Employees. The letter requesting this hearing can be found in the docket for this rulemaking available through EDOCKET (http://www.epa.gov/edocket), or in person at the OSWER Docket, EPA West Building, Room B102, 1301 Constitution Avenue, NW., Washington, DC. The docket number for this rulemaking is RCRA-2003-0004.

DATES: A public hearing on the proposal will be held on March 9, 2004 in Washington, DC. In addition, the comment period for this proposal has been extended and now ends April 9, 2004.

ADDRESSES: The public hearing will be held in Room 1153 of the EPA East Building on the corner of 12th Street and Constitution Avenue, NW., in Washington, DC. For security reasons, photo identification will be required to get into the building.

FOR FURTHER INFORMATION CONTACT: Questions concerning the public hearing or this proposed rulemaking should be directed to Kathy Blanton at (703) 605-0761 or by e-mail at blanton.katherine@epa.gov.

SUPPLEMENTARY INFORMATION: The public hearing on the proposed rule, entitled “Proposed Conditional Exclusions from Hazardous and Solid Waste for Solvent Contaminated Industrial Wipes,” will be on March 9, 2004. Doors will open at 9 a.m. and the hearing will run beginning from 9:30 a.m. to 12:30 p.m. The public hearing may be adjourned early if there is not significant attendance or participation and, if necessary, will continue beyond 12:30 p.m. to ensure that all those who register by 9:30 a.m. on the day of the hearing have the opportunity to speak. Please leave extra time to get to the hearing in order to check in with security. Visitors will be asked to show photo identification, will be screened through security equipment, and will be escorted to the hearing room from the security check-in.

The public hearing will be held in Room 1153 of the EPA East Building at 1201 Constitution Avenue, NW., Washington, DC. The metro stop is Federal Triangle, on both the Orange and the Blue lines.

We invite the public and representatives of interested organizations and agencies to attend and provide comments on the proposed regulation. Any person who wishes may appear and speak at the public hearing; however, we encourage those planning to give oral testimony to pre-register with EPA. Those planning to speak at the hearings should notify Kathy Blanton, Office of Solid Waste, Hazardous Waste Identification Division, by telephone at (202) 605-0761, or by e-mail at blanton.katherine@epa.gov. Pre-registration will end March 5, 2004. If you cannot pre-register, sign-ups will be taken at the door until 9:30 a.m. on the day of the hearing.

Oral testimony will be limited to 7 minutes each. Any member of the public may file a written statement in addition to presenting orally. A verbatim transcript of the hearing and written statements will be made available at the OSWER Docket, at the above address.

If you plan to attend the public hearing and need special assistance, such as sign language interpretation or other reasonable accommodations, contact Kathy Blanton, at the above e-mail address or phone number.

Dated: February 13, 2004.
Matt Hale,
Acting Director, Office of Solid Waste.

[FR Doc. 04-3934 Filed 2-23-04; 8:45 am]

BILLING CODE 6560-50-P